DEPARTMENT OF TRANSPORTATION

Federal Aviation Administration

[Docket No. FAA-2023-0305]

Notice of Public Meeting: Input to Changed Product Rule (CPR) International Authorities Working Group (IAWG) Recommendations

AGENCY: Federal Aviation Administration (FAA), DOT.

ACTION: Notice of public meeting.

SUMMARY: This notice announces a public meeting for input to Changed Product Rule (CPR) International Authorities Working Group (IAWG) recommendations. The purpose of the public meeting is for the FAA to present information on and receive public input on the CPR IAWG recommendations.

DATES: The meeting will be held on Tuesday, February 28, 2023, from 9:00 a.m. to 4:00 p.m. Eastern Time. Requests to attend the meeting must be received by Monday, February 20, 2023. Requests for accommodations to a disability must be received by Monday, February 20, 2023. Materials to be presented during the meeting must be received no later than Monday, February 20, 2023. The FAA will accept input on the IAWG recommendations until March 17, 2023.

ADDRESSES: The meeting will be held at The General Aviation Manufacturers Association, 1400 K Street NW, Suite 801, Washington, DC 20005 and virtually. Members of the public who wish to participate in the meeting must RSVP by emailing 9-AVS-DAH-Info@faa.gov.

Meeting minutes, transcripts, and other information will be available in the public docket at Regulations.gov, unless certain information is protected from disclosure.

Docket: Send comments identified by Docket No. FAA-2023-0137 using any of the following methods:

• Federal eRegulations Portal: Go to https://www.regulations.gov/ and follow the online instructions for sending your comments electronically.

• Mail: Send comments to Docket Operations, M-30, U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251

Privacy: In addition to the presentations, the FAA will post all comments it receives, without change, to https://www.regulations.gov/, including any personal information provided by the commenter. DOT's complete Privacy Act Statement can be found in the Federal Register published on April 11, 2000 (65 FR 19477-19478).

FOR FURTHER INFORMATION CONTACT: Sue McCormick, Manager, Strategic Policy for Systems Standards, AIR-619, Strategic Policy Management Branch, Policy and Innovation Division, Aircraft Certification Service, Federal Aviation Administration, 26805 East 68th Avenue, Denver, CO 80249, telephone (206) 231-3242, email 9-AVS-DAH-Info@faa.gov.

SUPPLEMENTARY INFORMATION:

I. Background

The FAA issued a notice in the Federal Register (87 FR 77671, December 19, 2022), announcing the availability of recommendations from the CPR IAWG, encouraged industry review of the CPR IAWG recommendations, and informed the public on the intent to seek input and comments during a forthcoming public meeting.

A copy of the International Authorities Working Group (IAWG) Changed Product Rule (CPR) Recommendations can be downloaded at: https://www.faa.gov/aircraft/air_cert/design_approvals/dah/iawg_cpr_recs.

II. Agenda

At the meeting, the agenda will solicit input on each of the recommendations from the IAWG report in the following manner:

Morning Session

Recommendations applicable to § 21.101 of title 14, Code of Federal Regulations (14 CFR), significant changes to include eliminating impractical exceptions, combining impractical and does not contribute materially to the level of safety exceptions, additional design requirements and conditions, definition of baseline product, cumulative effect and related changes, proposed revisions to § 21.101, and removing secondary changes.

Afternoon Session

Continue discussion on recommendations applicable to § 21.101 significant changes to include the use of system safety methodologies, documentation of certification basis on certificates and recommendations applicable to § 21.19: Substantial Changes. Input that is supported by data, especially quantifiable data, on use of the CPR process is highly encouraged.

The final meeting agenda will be posted on the FAA website https://www.faa.gov/aircraft/air_cert/design_approvals/dah.

III. Purpose

The purpose of the public meeting is for the FAA to hear the public's views and obtain information relevant to the CPR IAWG recommendations. The FAA will consider comments made at the public meeting as well as comments submitted to the docket.

IV. Public Participation

The meeting will be open to the public on a first-come, first served basis, as space is limited. The FAA will make every effort to accommodate all persons wishing to attend. Persons wishing to attend this one-time meeting in person are requested to register in advance, due to limited space. Please confirm your attendance with the person listed in the FOR FURTHER INFORMATION CONTACT section. Please provide the following information: full legal name, country of citizenship, name of your industry association or applicable affiliation, your intention to attend in person or virtually, and if you intend to present information at the meeting. There will be 10 minutes allotted for oral comments from each member of the public joining the meeting. To accommodate as many speakers as possible, the time for each commenter may be limited. Additionally, the FAA may end sessions early, per the discretion of the facilitator. The FAA will email virtual registrants the meeting access information in a timely manner prior to the meeting.

Members of the press, in addition to registering for this event, must also RSVP by emailing 9-AVS-DAH-Info@faa.gov by February 20, 2023.

The U.S. Department of Transportation is committed to providing equal access to this meeting for all participants. If you need alternative formats or services because of a disability, such as sign language, interpretation, or other ancillary aids, please contact the person listed in the FOR FURTHER INFORMATION CONTACT section.

Issued in Washington, DC, on February 9, 2023.
Victor Wicklund,
Acting Director, Policy & Innovation Division, Aircraft Certification Service.

[FR Doc. 2023-03098 Filed 2-13-23; 8:45 am]

BILLING CODE 4910-13-P